DEPARTMENT OF HEALTH AND HUMAN SERVICES

National Institutes of Health

National Institute on Aging; Amended Notice of Meeting

Notice is hereby given of a change in the meeting of the Clinical Aging Review Committee, June 12, 2013, 3:00 p.m. to June 13, 2013, 12:00 p.m., Courtyard Long Beach Downtown, 500 East First Street, Long Beach, CA 90802, which was published in the Federal Register on May 3, 2013, 78 FR 26054.

The dates of the meeting have changed from June 12-13, 2013 to starting June 13, 2013 at 3:00 p.m. and ending June 14, 2013 at 12:00 p.m. The meeting is closed to the public.

Dated: May 7, 2013.
Melanie J. Gray,
Program Analyst, Office of Federal Advisory Committee Policy.

[FR Doc. 2013-11350 Filed 5-13-13; 8:45 am]

BILLING CODE 4140-01-P